DEPARTMENT OF ENERGY

Federal Energy Regulatory Commission

Combined Notice of Filings

Take notice that the Commission has received the following Natural Gas Pipeline Rate and Refund Report filings:

Filings Instituting Proceedings

Docket Numbers: RP13-577-000.

Applicants: Natural Gas Pipeline Company of America.

Description: Natural Gas Pipeline Company of America LLC submits tariff filing per 154.204: JP Morgan Neg Rate to be effective 4/1/2013.

Filed Date: 2/21/13.

Accession Number: 20130221-5053.

Comments Due: 5 p.m. ET 3/5/13.

Docket Numbers: RP13-578-000.

Applicants: Natural Gas Pipeline Company of America.

Description: Natural Gas Pipeline Company of America LLC submits tariff filing per 154.204: Wisconsin Electric Neg Rates to be effective 4/1/2013.

Filed Date: 2/21/13.

Accession Number: 20130221-5054.

Comments Due: 5 p.m. ET 3/5/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Dated: February 21, 2013.
Nathaniel J. Davis, Sr.,
Deputy Secretary.

[FR Doc. 2013-04494 Filed 2-26-13; 8:45 am]

BILLING CODE 6717-01-P